DEPARTMENT OF LABOR

Employment and Training Administration

[TA-W-65,308]

Edscha North America, Centerpoint Administrative Offices, Pontiac, MI; Notice of Termination of Investigation

Pursuant to Section 221 of the Trade Act of 1974, as amended, an investigation was initiated on February 19, 2009 in response to a petition filed on behalf of workers at Edscha North America, Centerpoint Administrative Offices, Pontiac, Michigan.

The petitioner has requested that the petition be withdrawn. Consequently, the investigation has been terminated.

Signed at Washington, DC this 22nd day of April 2009.
Elliott S. Kushner,
Certifying Officer, Division of Trade Adjustment Assistance.

[FR Doc. E9-11851 Filed 5-20-09; 8:45 am]

BILLING CODE 4510-FN-P